DEPARTMENT OF COMMERCE

International Trade Administration

(A-533-824)

Polyethylene Terephthalate Film, Sheet and Strip from India: Notice of Rescission, in Part, of Antidumping Duty Administrative Review

AGENCY: Import Administration, International Trade Administration, Department of Commerce.

SUMMARY: On August 30, 2006, in response to a timely request from Jindal Poly Films Limited of India and MTZ Polyfilms, Ltd., the Department of Commerce (the Department) initiated an administrative review of the antidumping duty order on polyethylene terephthalate (PET) film from India. See Initiation of Antidumping and Countervailing Duty Administrative Reviews and Requests for Revocation in Part, 71 FR 51573 (August 30, 2006) (Initiation Notice). This administrative review covers the period July 1, 2005 through June 30, 2006. We are now rescinding the review of Jindal Poly Films Limited of India as a result of the withdrawal of its request for an administrative review of this order; we are continuing the administrative review of MTZ Polyfilms, Ltd.

EFFECTIVE DATE: January 10, 2007.

FOR FURTHER INFORMATION CONTACT: Jun Jack Zhao or Jacqueline Arrowsmith, AD/CVD Operations, Office 6, Import Administration, International Trade Administration, U.S. Department of Commerce, 14th Street and Constitution Avenue, NW, Room 7866, Washington, DC 20230; telephone number: (202) 482-1396 and (202) 482-5255, respectively.

SUPPLEMENTARY INFORMATION:

Background

On July 3, 2006, the Department published a notice of “Opportunity to Request Administrative Review” of the antidumping duty order on PET film from India for the period of July 1, 2005 through June 30, 2006. See Antidumping or Countervailing Duty Order, Finding, or Suspended Investigation; Opportunity To Request Administrative Review, 71 FR 37890 (July 3, 2006). On July 31, 2006, Jindal Poly Films Limited of India (Jindal) and MTZ Polyfilms, Ltd. (MTZ) requested an administrative review of the antidumping duty order on PET film. In response to these requests, the Department of Commerce initiated an antidumping duty administrative review on PET film from India. See Initiation Notice.

On August 25, 2006, pursuant to section 351.213(d)(1) of the Department's regulations, Jindal withdrew its request for an administrative review. Section 351.213(d) of the Department's regulations states that the Secretary will rescind an administrative review, in whole or in part, if a party that requested the review withdraws the request within 90 days of the date of publication of the notice of initiation of the requested review. We received the withdrawal of Jindal's request for review on August 25, 2006, which is within the requisite 90 days since the Initiation Notice was published on July 31, 2006.

Assessment

The Department will instruct U.S. Customs and Border Protection (CBP) to assess antidumping duties on all appropriate entries. For the company for which this review is rescinded (Jindal), antidumping duties shall be assessed at rates equal to the cash deposit of estimated antidumping duties required at the time of entry, or withdrawal from warehouse, for consumption, in accordance with 19 CFR 351.212(c)(1)(I). The Department will issue appropriate assessment instructions to CBP 15 days after the publication of this notice.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with section 777(i) of the Tariff Act of 1930, as amended, and 19 CFR 351.213(d)(4).

Dated: January 3, 2007.
Stephen J. Claeys,
Deputy Assistant Secretary for Import Administration.

[FR Doc. E7-199 Filed 1-9-07; 8:45 am]

BILLING CODE 3510-DS-S